DEPARTMENT OF COMMERCE

International Trade Administration

[C-580-851]

Notice of Amended Final Affirmative Countervailing Duty Determination: Dynamic Random Access Memory Semiconductors from the Republic of Korea

AGENCY: Import Administration, International Trade Administration, Department of Commerce.

ACTION: Notice of amended final affirmative countervailing duty determination.

SUMMARY: On June 16, 2003, the Department of Commerce issued the Final Affirmative Countervailing Duty Determination: Dynamic Random Access Memory Semiconductors from the Republic of Korea. On June 23, 2003, the Department published in the Federal Register the Final Affirmative Countervailing Duty Determination: Dynamic Random Access Memory Semiconductors from the Republic of Korea, 68 FR 37122. On June 24, 2003, Hynix Semiconductors, Inc., filed allegations of ministerial errors. On June 30, 2003, the petitioner, Micron Technologies, Inc., filed a response to the allegations. Based on our review of the comments received from all parties regarding the alleged ministerial errors, we have revised the estimated countervailing duty rate for Hynix Semiconductors, Inc., as well as the “All Others” rate. The revisions to the estimated countervailing duty rates are listed below in the “Amended Final Determination” section.

EFFECTIVE DATE: July 28, 2003.

FOR FURTHER INFORMATION CONTACT: Ryan Langan or Jesse Cortes, Office of Antidumping/Countervailing Duty Enforcement, Group 1, Import Administration, U.S. Department of Commerce, Room 3099, 14th Street and Constitution Avenue, N.W., Washington, D.C. 20230; telephone(202) 482-2613 and (202) 482-3986, respectively.

SUPPLEMENTARY INFORMATION:

Scope of Investigation

The products covered by this investigation are dynamic random access memory semiconductors (“DRAMS”) from the Republic of Korea (“ROK”), whether assembled or unassembled. Assembled DRAMS include all package types. Unassembled DRAMS include processed wafers, uncut die, and cut die. Processed wafers fabricated in the ROK, but assembled into finished semiconductors outside the ROK are also included in the scope. Processed wafers fabricated outside the ROK and assembled into finished semiconductors in the ROK are not included in the scope.

The scope of this investigation additionally includes memory modules containing DRAMS from the ROK. A memory module is a collection of DRAMS, the sole function of which is memory. Memory modules include single in-line processing modules, single in-line memory modules, dual in-line memory modules, small outline dual in-line memory modules, Rambus in-line memory modules, and memory cards or other collections of DRAMS, whether unmounted or mounted on a circuit board. Modules that contain other parts that are needed to support the function of memory are covered. Only those modules that contain additional items which alter the function of the module to something other than memory, such as video graphics adapter boards and cards, are not included in the scope. This investigation also covers future DRAMS module types.

The scope of this investigation additionally includes, but is not limited to, video random access memory and synchronous graphics random access memory, as well as various types of DRAMS, including fast page-mode, extended data-out, burst extended data-out, synchronous dynamic RAM, Rambus DRAM, and Double Data Rate DRAM. The scope also includes any future density, packaging, or assembling of DRAMS. Also included in the scope of this investigation are removable memory modules placed on motherboards, with or without a central processing unit, unless the importer of the motherboards certifies with the U.S. Bureau of Customs and Border Protection (“Customs”) that neither it, nor a party related to it or under contract to it, will remove the modules from the motherboards after importation. The scope of this investigation does not include DRAMS or memory modules that are re-imported for repair or replacement.

The DRAMS subject to this investigation are currently classifiable under subheadings 8542.21.8005 and 8542.21.8021 through 8542.21.8029 of the Harmonized Tariff Schedule of the United States (“HTSUS”). The memory modules containing DRAMS from the ROK, described above, are currently classifiable under subheadings 8473.30.10.40 or 8473.30.10.80 of the HTSUS. Removable memory modules placed on motherboards are classifiable under subheading 8471.50.0085. Although the HTSUS subheadings are provided for convenience and customs purposes, the Department's written description of the scope of this investigation remains dispositive.

Period of Investigation

The period for which we are measuring subsidies, or period of investigation, is January 1, 2001, through June 30, 2002.

Amended Final Determination

In accordance with section 705(d) of the Tariff Act of 1930, as amended, (“the Act”), on June 23, 2003, the Department published in the Federal Register the Final Affirmative Countervailing Duty Determination: Dynamic Random Access Memory Semiconductors from the Republic of Korea, 68 FR 37122. Subsequently, on June 24, 2003, Hynix Semiconductor, Inc. (“Hynix” or “respondent”) submitted timely ministerial error allegations pursuant to 19 CFR 351.224(c)(2). On June 30, 2003, the petitioner, Micron Technologies, Inc. (“Micron”), submitted a rebuttal to Hynix' allegations.

Hynix alleged that, for certain loans, the Department erroneously applied uncreditworthy benchmark interest rates to financing obtained before Hynix was determined to be uncreditworthy. The petitioner rebutted these allegations stating that they related to methodological issues, not ministerial issues. Additionally, the petitioner identified data that showed that Hynix' allegations were for loans that were refinanced and, therefore, the Department correctly used uncreditworthy benchmark rates for these loans after the refinancing date. Hynix further alleged that the Department used long-term benchmark rates in the benefit calculations for three short-term loans, which were refinanced for an additional year. Micron claimed that this allegation is methodological, not ministerial, and should be rejected. Hynix then alleged that the Department erroneously included interest payments that accrued outside of the POI in its benefit calculations. Micron argued that this does not constitute a ministerial error because it is solely related to the methodology used by the Department. Hynix also alleged that the Department attributed the wrong percentage of KDB Fast Track bonds to Hynix' creditors because of debt conversions that occurred in June and December, 2001. Micron claimed that this allegation constitutes a methodological error allegation and, therefore, should be rejected by the Department. Finally, Hynix alleged that the Department failed to include the second of two interest payments that were made for the same bond but were reported separately. Micron stated that there is no evidence on the record linking the alleged second payment to the bonds identified by Hynix and, therefore, the Department must reject this allegation.

After analyzing the submissions, we have determined, in accordance with section 705(e) of the Act and 19 CFR 351.224, that we made the following ministerial errors in the margin calculations for Hynix: 1) For certain loans, we did not use the correct benchmark for financing obtained prior to the period during which we found Hynix to be uncreditworthy; 2) We incorrectly used a long-term benchmark interest rate for one loan that was refinanced for one year; 3) For KDB Fast Track bonds, we incorrectly calculated the percentage of these bonds held by Hynix' creditors after June 2001, and December 2001. For a detailed discussion of the ministerial error allegations and the Department's analysis, see the July 21, 2003 memorandum from Team to Laurie Parkhill, Acting Deputy Assistant Secretary entitled Ministerial Error Allegations for the Final Determination, which is on file in the Department's Central Records Unit in Room B-099 of the main Department building.

Therefore, we are amending the final determination for the countervailing duty investigation of dynamic random access memory semiconductors from the Republic of Korea to reflect the corrections of the above-noted ministerial errors. The revised total estimated net subsidy rate for each company is as follows:

Producer/Exporter | Net Subsidy Rate
Samsung Electronics Co., Ltd. | 0.04 percent (de minimis) (unchanged from the Final Determination)
Hynix Semiconductor Inc. (formerly, Hyundai Electronics Industries Co., Ltd.) | 44.29 percent
All Others | 44.29 percent

Suspension of Liquidation

In accordance with section 705(c)(1)(B) of the Act, we are directing Customs to continue suspending liquidation on all imports of subject merchandise from the Republic of Korea, except for imports of subject merchandise from Samsung Electronics Co., Ltd., that are entered, or withdrawn from warehouse, for consumption on or after the date of publication of this notice in the Federal Register. Customs shall require a cash deposit or the posting of a bond equal to the margin/subsidy rates indicated in the chart above. These suspension of liquidation instructions will remain in effect until further notice.

We will issue a countervailing duty order if the International Trade Commission (“ITC”) issues a final affirmative injury determination. If the ITC determines that material injury, or threat of material injury, does not exist, this proceeding will be terminated and all estimated duties deposited or securities posted as a result of the suspension of liquidation will be refunded or canceled.

ITC Notification

In accordance with section 705(d) of the Act, we will notify the ITC of our amended final determination.

This determination is published pursuant to sections 705(d) and 777(i) of the Act.

Dated: July 21, 2003.
Joseph A. Spetrini,
Acting Assistant Secretary for Grant Aldonas, Under Secretary.

[FR Doc. 03-19141 Filed 7-25-03; 8:45 am]

BILLING CODE 3510-DS-S